DEPARTMENT OF HOMELAND SECURITY

Coast Guard

[Docket No. USCG-2007-0077]

Recreational Boating Safety Projects, Programs and Activities Funded Under Provisions of the Transportation Equity Act for the 21st Century; Accounting of

AGENCY: Coast Guard, DHS.

ACTION: Notice.

SUMMARY: For eight fiscal years starting in 1999, the Transportation Equity Act for the 21st Century has made $5 million available to the Secretary of Transportation or the Secretary of Homeland Security for payment of Coast Guard expenses for personnel and activities directly related to coordinating and carrying out the national recreational boating safety program. In 2005, the law was amended and the amount was increased to $5.5 million. This notice satisfies a requirement of the Act that a detailed accounting of the projects, programs, and activities funded under the national recreational boating safety program provision of the Act be published annually in the Federal Register. In this notice we have specified the amount of monies the Coast Guard has committed, obligated or expended during fiscal year 2007, as of September 30, 2007.

FOR FURTHER INFORMATION CONTACT: Jeff Ludwig, Regulations Development Manager, telephone 202-372-1062, fax 202-372-1932.

Background and Purpose: The Transportation Equity Act for the 21st Century became law on June 9, 1998 (Pub. L. 105-178; 112 Stat. 107). The Act required that of the $5 million made available to carry out the national recreational boating safety program each year, $2 million shall be available only to ensure compliance with Chapter 43 of Title 46, U.S. Code—Recreational Vessels. On September 29, 2005, the Sportfishing and Recreational Boating Safety Amendments Act of 2005 was enacted (Pub. L. 109-74; 119 Stat. 2031). This Act increased the funds available to the national recreational boating safety program from $5 million to $5.5 million annually, and stated that “not less than” $2 million shall be available only to ensure compliance with Chapter 43 of Title 46, U.S. Code—Recreational Vessels.

The responsibility to administer these funds was delegated to the Commandant of the United States Coast Guard. Subsection (c) of section 7405 of the Act directs that no funds available to the Secretary under this subsection may be used to replace funding traditionally provided through general appropriations, nor for any purposes except those purposes authorized; namely, for personnel and activities directly related to coordinating and carrying out the national recreational boating safety program. Amounts made available each fiscal year from 1999 through 2007 shall remain available until expended.

Use of these funds requires compliance with standard Federal contracting rules with associated lead and processing times resulting in a lag time between available funds and spending. The total amount of funding transferred to the Coast Guard from the Sport Fish Restoration and Boating Trust Fund and committed, obligated, and/or expended during fiscal year 2007 for each activity is shown below.

Factory Visit Program: Funding was provided to continue the national recreational boat factory visit program, initiated in January 2001. The factory visit program currently allows contractor personnel, acting on behalf of the Coast Guard, to visit 2,000 recreational boat manufacturers each year to inspect for compliance with federal regulations, communicate with the manufacturers as to why they need to comply with federal regulations, and educate them, as necessary, on how to comply with federal regulations. ($2,156,810)

Boat Compliance Testing: Funding was provided to continue expanded Boat Testing program which includes inboard/sterndrive boats and used boats. ($100,000)

Associated Equipment Compliance Testing: Funding was provided to continue to buy recreational boat “associated equipment” (e.g., starters, alternators, fuel pumps, and bilge pumps) and test this equipment for compliance with federal safety regulations. This new initiative complements the boat compliance testing program. ($150,000)

New Recreational Boating Safety Associated Travel: Travel by employees of the Office of Boating Safety was performed to carry out additional recreational boating safety actions and to gather background and planning information for new recreational boating safety initiatives. ($13,489)

Boating Accident News Clipping Service: Funding was provided to continue to gather daily news stories of recreational boating accidents nationally for more real time accident information and to identify accidents that may involve regulatory non-compliances or safety defects. ($54,900)

Accident Investigation Tiger Team: Funding was provided to continue to provide on-call expert accident investigative services for any boating accident that appeared to involve a regulatory non-compliance or safety defect. ($59,278)

Web-based Document Management System: Funding was provided to continue to provide a web-based document management to better enable the handling of thousands of recreational boating recall case and campaign reports. ($49,630)

Recreational Boating Safety (RBS) Outreach Program: Funding was provided for this program which provides full marketing, media, public information, and program strategy support to the nation-wide RBS effort. The goal is to coordinate the RBS outreach initiatives and campaigns some of which include: National Boating Under the Influence Campaign (BUI), “You're in Command. Boat Responsibly!”, PFD Wear, Vessel Safety Check Program (VSC), Boating Safety Education Courses, Propeller Strike Avoidance, Carbon Monoxide Poisoning, and other recreational boating safety issues on an as needed basis. The USCG purchased and will distribute 10,000 inflatable lifejackets to volunteer groups to be worn while conducting vessel safety checks and during public recreational boating events such as exhibits, boat shows, public education courses, etc. to promote the “Wear it” campaign and to make boaters aware of the modern advances in lifejackets. ($1,696,725)

Boating Accident Report Database (BARD) Web System: BARD Web System funding enables reporting authorities in the 50 States, five U.S. Territories and the District of Columbia to manage their accident reports electronically over a secure Internet environment. The system also enables the user community to generate statistical reports that show the frequency, nature, and severity of boating accidents. FY 06 funds supported system maintenance, technical (hotline) support and formal classroom instruction for the entire user community. ($310,608)

Personnel Support: Funding was provided for personnel to support the development of new regulations, to support new contracting activities associated with the additional funding, and to monitor and manage the contracts awarded. ($854,706)

National Recreational Boating Survey: A national recreational boating survey was conducted to obtain up-to-date statistical estimates on recreational boating. Over 25,000 surveys were completed with individuals who boated between September 2001 and September 2002. Survey findings were extrapolated to produce national, regional and State estimates of boat use as well as the characteristics of boat operators, passengers, boats, safety equipment, and the boating environment. ($2,126)

Risk Management for Recreational Boaters: Funding was provided for risk-based decision training focusing on three boating groups—families, friends and solo boaters. The course provides attendees with an in-depth look at proper risk management and discusses techniques for better decision-making processes in boating. The end result is to provide a potential national model to recreational boaters with decision-making skills that will result in safer boaters. The benefit will be a better understanding as to how to deal effectively with risk and lower mishap rates. ($25,000)

Propeller Guard Test Protocol: Funding was provided to complete the recreational boat handling/performance phase of a three-phase effort to develop a protocol for the testing of propeller guards. The test protocol will be made available to propeller guard manufacturers to determine the feasibility of their product for use on recreational boats. ($230,000)

Recreational Boat Rental Education Package: Funding was provided to develop a standardized educational package for recreational boat rental agencies to use to provide the necessary safety information to renters prior to renting a boat. ($73,783)

Articulated Mannequins/Computer Simulation Model: Funding was provided to continue the development of flotation mannequins and a water forces computer simulation program to promote the rapid, objective evaluation of different PFD designs on various body types that are representative of the recreational boating population. The computer simulation program will be validated through the use of a family of anthropomorphic, articulated mannequins. The development of the computer simulation program will facilitate evaluation of the effectiveness of new and unique PFD designs. ($83,109)

Of the $5.5 million made available to the Coast Guard in fiscal year 2007, $3,844,545 has been committed, obligated or expended and an additional $2,015,619 of prior fiscal year funds have been committed, obligated or expended, as of September 30, 2007. Approximately $7.8 million has not been committed, obligated or expended from previous years, and is being reserved for a multi-year national boating survey.

Dated: December 3, 2007.
James A. Watson,
Rear Admiral (Lower Half), U.S. Coast Guard, Director of Prevention Policy.

Editorial Note: This document was received at the Office of the Federal Register on March 6, 2008.

[FR Doc. E8-4755 Filed 3-7-08; 8:45 am]

BILLING CODE 4910-15-P